DEPARTMENT OF COMMERCE

National Oceanic and Atmospheric Administration

RIN 0648-XE075

Marine Mammals; File No. 18636

AGENCY: National Marine Fisheries Service (NMFS), National Oceanic and Atmospheric Administration (NOAA), Commerce.

ACTION: Notice; receipt of application.

SUMMARY: Notice is hereby given that Iain Kerr, D.H.L., Ocean Alliance, 32 Horton Street, Gloucester, MA 01930, has applied in due form for a permit to conduct research on multiple cetacean species.

DATES: Written, telefaxed, or email comments must be received on or before September 28, 2015.

ADDRESSES: The application and related documents are available for review by selecting “Records Open for Public Comment” from the “Features” box on the Applications and Permits for Protected Species (APPS) home page, https://apps.nmfs.noaa.gov, and then selecting File No. 18636 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), and the Endangered Species Act of 1973, as amended (ESA; 16 U.S.C. 1531 et seq.).

The applicant requests a five-year permit to determine how environmental toxicants affect cetaceans and vary spatially and temporally across species; and determine the route of exposure. Research would occur in U.S. waters and the high seas of the Pacific, Atlantic and Indian Oceans via vessel surveys targeting live cetaceans, tissue collection of dead, stranded cetaceans, and the import/export/receipt of biological samples collected in foreign waters/countries. Field research activities on live animals would include collection of sloughed skin and feces, biopsy sampling, photo-identification, videography, passive acoustic recording, focal follows, behavioral observation, and breath sampling via a small unmanned aircraft system. The applicant requests to annually harass and sample the following species during vessel surveys as follows. In the North Atlantic: 150 takes for the primary study species, sperm whales (Physeter macrocephalus); 30 takes for Bryde's whales (Balaenoptera brydei); 40 takes for humpback whales (Megaptera novaeangliae); and 20 takes for all other requested species [blue (B. musculus), dwarf sperm (Kogia sima), false killer (Pseudorca crassidens), fin (B. physalus), killer whales (Orcinus orca), minke (B. acutorostrata), pilot (Globicephala spp.), pygmy sperm (Kogia breviceps), sei (B. borealis), and beaked whale species and dolphins]. In the Pacific Ocean, the applicant requests up to 100 takes of sperm whales, and 20 takes of all other species, annually: blue, pygmy and dwarf sperm, fin, humpback, Bryde's, minke, short- and long-finned pilot, sei, Eastern gray (Eschrichtius robustus), false killer, and killer whales, and several beaked whale and dolphin species.

Additionally, the applicant requests to annually import/export/receive up to 150 biological samples (parts) for sperm whales; 200 parts for southern right whales; 40 parts for humpback whales; 30 parts for Bryde's whales; and 20 parts for all other requested species.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 18, 2015.
Julia Harrison,
Chief, Permits and Conservation Division, Office of Protected Resources, National Marine Fisheries Service.

[FR Doc. 2015-21216 Filed 8-26-15; 8:45 am]

BILLING CODE 3510-22-P